GENERAL SERVICES ADMINISTRATION

[OMB Control No. 3090-0300; Docket No. 2020-0001; Sequence No. 9]

Submission for OMB Review; General Services Administration Acquisition Regulation; Implementation of Information Technology Security Provision

AGENCY: Office of Acquisition Policy, General Services Administration (GSA).

ACTION: Notice of request for comments regarding an extension to an existing OMB information collection.

SUMMARY: Under the provisions of the Paperwork Reduction Act of 1995, the Regulatory Secretariat Division will be submitting to the Office of Management and Budget (OMB) a request to review and approve a renewal of the currently approved information collection requirement regarding Implementation of Information Technology Security Provision.

DATES: Submit comments on or before January 6, 2021.

ADDRESSES: Written comments and recommendations for this information collection should be sent within 30 days of publication of this notice to www.reginfo.gov/public/do/PRAMain.

Find this particular information collection by selecting “Currently under Review—Open for Public Comments” or by using the search function.

FOR FURTHER INFORMATION CONTACT: Ms. Johnnie McDowell, Program Analyst, Office of Acquisition Policy, at (202) 718-6112, or gsarpolicy@gsa.gov.

SUPPLEMENTARY INFORMATION:

A. Purpose

GSA's Office of the Chief Information Officer (OCIO) issued “CIO IT Security Procedural Guide 09-48, GSA IT Security Procedural Guide: Security and Privacy Acquisition Requirements,” to provide IT security standards, policies and reporting requirements. The GSA OCIO also issued “CIO 12-2018, GSA IT Policy Requirements Guide” requiring contracting officers and the contracting officer's representatives to coordinate with GSA Information Technology approving officials or their delegate for review of contractor submissions which may impact GSA's internal information systems. These streamlined policies into two centralized policies will reduce contractors' time to comply with GSA's IT policies and increase the security of GSA's internal information systems. These policies include the requirement for contractors to submit an IT Security Plan to the contracting officer and contracting officer's representative that describes the processes and procedures that will be followed to ensure appropriate security of IT resources that are developed, processed, or used under the contract. The clause will also require that contractors submit written proof of IT security authorization six months after contract award, and verify that the IT Security Plan remains valid annually.

B. Annual Reporting Burden

Respondents: 91.

Responses Per Respondent: 2.

Total Annual Responses: 182.

Hours per Response: 5.

Total Burden Hours: 910.

C. Public Comments

A 60-day notice published in the Federal Register at 85 FR 55678 on September 9, 2020. There were no comments.

Obtaining Copies of Proposals: Requesters may obtain a copy of the information collection documents from the GSA Regulatory Secretariat Division, by calling 202-501-4755 or emailing GSARegSec@gsa.gov. Please cite OMB Control No. 3090-0300, Implementation of Information Technology Security Provision, in all correspondence.

Jeffrey Koses,
Senior Procurement Executive, Office of Acquisition Policy, Office of Government-wide Policy.

[FR Doc. 2020-26817 Filed 12-4-20; 8:45 am]

BILLING CODE 6820-61-P